DEPARTMENT OF THE TREASURY

Internal Revenue Service

26 CFR Part 301

[REG-141669-02]

RIN 1545-BB41

Waiver of Information Reporting Penalties-Determining Whether Correction Is Prompt

AGENCY: Internal Revenue Service (IRS), Treasury.

ACTION: Cancellation of notice of public hearing on proposed rulemaking.

SUMMARY: This document provides notice of cancellation of a public hearing on proposed regulations providing guidance on the requirement of prompt correction of the failure to file or file correctly.

DATES: The public hearing originally scheduled for Tuesday, October 21, 2003, at 10 a.m., is cancelled.

FOR FURTHER INFORMATION CONTACT: Treena Garrett of the Publications and Regulations Branch, Legal Processing Division, Associate Chief Counsel (Procedure and Administration), (202) 622-3401 (not a toll-free number).

SUPPLEMENTARY INFORMATION: A notice of proposed rulemaking and notice of public hearing that appeared in the Federal Register on Wednesday, July 9, 2003, (68 FR 40857), announced that a public hearing was scheduled for Tuesday, October 21, 2003, at 10 a.m. in the Auditorium, Internal Revenue Service Building, 1111 Constitution Avenue, NW., Washington, DC. The subject of the public hearing is proposed regulations under sections 6721 and 6724 of the Internal Revenue Code. The public comment period for these proposed regulations expired on Tuesday, October 7, 2003. Outlines of oral comments were due on Tuesday, September 30, 2003.

The notice of proposed rulemaking and notice of public hearing, instructed those interested in testifying at the public hearing to submit an outline of the topics to be addressed. As of Friday, October 10, 2003, no one has requested to speak. Therefore, the public hearing scheduled for Tuesday, October 21, 2003, is cancelled.

LaNita Van Dyke,
Acting Chief, Publications and Regulations Branch, Legal Processing Division, Associate Chief Counsel (Procedure and Administration).

[FR Doc. 03-26216 Filed 10-15-03; 8:45 am]

BILLING CODE 4830-01-P